COMMODITY FUTURES TRADING COMMISSION

Sunshine Act Meetings

Time and Date: 3 p.m., Tuesday, July 17, 2007.

Place: 1155 21st St., NW., Washington, DC, 9th Floor Conference Room.

Status: Closed.

Matters to be Considered: Enforcement Matters.

Contact Person for More Information: Eileen A. Donovan, 202-418-5100.

Eileen A. Donovan,
Acting Secretary of the Commission.

[FR Doc. 07-3459 Filed 7-11-07; 2:15 pm]

BILLING CODE 6351-01-M